SOCIAL SECURITY ADMINISTRATION

20 CFR Parts 403 and 429

[Docket No. SSA-2013-0064]

RIN 0960-AH65

Change of Address for Requests: Testimony by Employees and the Production of Records and Information in Legal Proceedings, Claims Against the Government Under the Federal Tort Claims Act of 1948, and Claims Under the Military Personnel and Civilian Employees' Claim Act of 1964

AGENCY: Social Security Administration.

ACTION: Final rule.

SUMMARY: This final rule updates the address used to file applications for testimony of a Social Security Administration employee and claims made pursuant to either the Federal Tort Claims Act of 1948 or the Military Personnel and Civilian Employees' Claims Act of 1964.

DATES: This final rule will be effective February 10, 2014.

FOR FURTHER INFORMATION CONTACT: Daniel F. Callahan, Office of the General Counsel, Social Security Administration, 6401 Security Boulevard, Room 617 Altmeyer Building, Baltimore, MD 21235-6401, (410) 965-4296. For information on eligibility or filing for benefits, call our national toll-free number, 1-800-772-1213 or TTY 1-800-325-0778, or visit our Internet site, Social Security Online, at http://www.socialsecurity.gov.

SUPPLEMENTARY INFORMATION: We are updating our regulations at 20 CFR 403.120, 429.102, and 429.202 to reflect a change in the address where an individual may contact us to request that an employee of the Social Security Administration testify in a legal proceeding to which we are not a party, or to file a claim against the Government under either the Federal Tort Claims Act of 1948 or the Military Personnel and Civilian Employees' Claims Act of 1964. The new address is: Social Security Administration, Office of the General Counsel, Office of General Law, 6401 Security Boulevard, Room 617 Altmeyer Building, Baltimore, Maryland 21235-6401.

We are not making any substantive changes to the regulations.

Regulatory Procedures

Justification for Final Rule

We follow the Administrative Procedure Act (APA) rulemaking procedures specified in 5 U.S.C. 553 when developing our regulations.¹ The APA provides exceptions to its prior notice and public comment procedures when an agency finds good cause for dispensing with such procedures on the basis that they are impracticable, unnecessary, or contrary to the public interest. In the case of this final rule, we have determined that good cause exists for dispensing with the notice and public comment procedures because such procedures are unnecessary.²

¹ 42 U.S.C. 902(a)(5).

² 5 U.S.C. 553(b)(B).

Executive Order 12866

We consulted with the Office of Management and Budget and determined that this final rule does not meet the criteria for a significant regulatory action under Executive Order 12866, as supplemented by Executive Order 13563.

Regulatory Flexibility Act

We certify that this final rule will not have a significant economic impact on a substantial number of small entities because it only affects individuals. Therefore, a regulatory flexibility analysis is not required under the Regulatory Flexibility Act, as amended.

Paperwork Reduction Act

This rule does not create any new or affect any existing collections and, therefore, does not require Office of Management and Budget approval under the Paperwork Reduction Act.

(Catalog of Federal Domestic Program Nos. 96.001, Social Security—Disability Insurance; 96.002, Social Security—Retirement Insurance; 96.004, Social Security—Survivors Insurance; 96.006, Supplemental Security Income; 96.007, Social Security—Research and Demonstration; 96.008, Social Security—Work Incentives Planning and Assistance Program; 96.009 Social Security State Grants for Work Incentives Assistance to Disabled Beneficiaries; 96.020, Special Benefits for Certain World War II Veterans; and 96.021 Social Security Economic Recovery Act Payments)

List of Subjects

20 CFR Part 403

Courts, Government employees, Reporting and recordkeeping requirements.

20 CFR Part 429

Administrative practice and procedure, Claims, Government employees, Penalties.

Dated: February 4, 2014.
Carolyn W. Colvin,
Acting Commissioner of Social Security.

For the reasons set out in the preamble, we amend 20 CFR chapter III, parts 403 and 429 as follows:

PART 403—TESTIMONY BY EMPLOYEES AND THE PRODUCTION OF RECORDS AND INFORMATION IN LEGAL PROCEEDINGS

1. The authority citation for part 403 continues to read as follows:

Authority: Secs. 702(a)(5) and 1106 of the Act, (42 U.S.C. 902(a)(5) and 1306); 5 U.S.C. 301; 31 U.S.C. 9701.

2. Amend § 403.120 to revise paragraph (c) to read as follows:

§ 403.120 How do you request testimony?

* * * * *

(c) You must send your application for testimony to: Social Security Administration, Office of the General Counsel, Office of General Law, 6401 Security Boulevard, Room 617 Altmeyer Building, Baltimore, Maryland, 21235-6401, Attn: Touhy Officer. (If you are requesting testimony of an employee of the Office of the Inspector General, send your application to the address in § 403.125.)

* * * * *

PART 429—ADMINISTRATIVE CLAIMS UNDER THE FEDERAL TORT CLAIMS ACT AND RELATED STATUTES

3. The authority citation for part 429 continues to read as follows:

Authority: Secs. 702(a)(5) of the Social Security Act (42 U.S.C. 902(a)(5)); 28 U.S.C. 2672; 28 CFR 14.11; 31 U.S.C. 3721.

Subpart A—Claims Against the Government Under the Federal Tort Claims Act

4. Amend § 429.102 to revise paragraph (c) to read as follows:

§ 429.102 How do I file a claim under this subpart?

* * * * *

(c) Where to obtain claims forms and file claims. You can obtain claims forms by writing to the Social Security Administration, Office of the General Counsel, Office of General Law, 6401 Security Boulevard, Room 617 Altmeyer Building, Baltimore, Maryland 21235-6401. You may also file your claim with the Social Security Administration at this same address.

Subpart B—Claims Under the Military Personnel and Civilian Employees' Claims Act of 1964

5. Amend § 429.202 to revise paragraph (b) to read as follows:

§ 429.202 How do I file a claim under this subpart?

* * * * *

(b) Where to file. You must file your claim with the Social Security Administration, Office of the General Counsel, Office of General Law, 6401 Security Boulevard, Room 617 Altmeyer Building, Baltimore, Maryland 21235-6401.

* * * * *

[FR Doc. 2014-02853 Filed 2-7-14; 8:45 am]

BILLING CODE 4191-02-P